SECURITIES AND EXCHANGE COMMISSION

[Release No. 34-95380; File No. SR-MSRB-2022-03]

Self-Regulatory Organizations; Municipal Securities Rulemaking Board; Notice of Withdrawal of Proposed Rule Change To Amend Certain Rates of Assessment for Rate Card Fees Under MSRB Rules A-11 and A-13, Institute an Annual Rate Card Process for Future Rate Amendments, and Provide for Certain Technical Amendments to MSRB Rules A-11, A-12, and A-13

July 28, 2022.

On June 2, 2022, the Municipal Securities Rulemaking Board (“MSRB”) filed with the Securities and Exchange Commission (“Commission”), pursuant to Section 19(b)(1) of the Securities Exchange Act of 1934 ¹ (“Exchange Act”) and Rule 19b-4 thereunder,² a proposed rule change to amend MSRB Rules A-11, A-12, and A-13. The proposed rule change was published for comment in the Federal Register on June 15, 2022.³

¹ 15 U.S.C. 78s(b)(1).

² 17 CFR 240.19b-4.

³ See Exchange Act Release No. 95075 (June 9, 2022), 87 FR 36164 (June 15, 2022). Comments on the proposed rule change can be found at: https://www.sec.gov/comments/sr-msrb-2022-03/srmsrb202203.htm.

On July 21, 2022, MSRB withdrew the proposed rule change (SR-MSRB-2022-03).

For the Commission, pursuant to delegated authority.⁴
⁴ 17 CFR 200.30-3(a)(12).
J. Matthew DeLesDernier,
Deputy Secretary.

[FR Doc. 2022-16547 Filed 8-2-22; 8:45 am]

BILLING CODE 8011-01-P